DEPARTMENT OF ENERGY

Federal Energy Regulatory Commission

Combined Notice of Filings #1

Take notice that the Commission received the following electric rate filings:

Docket Numbers: ER10-1569-002; ER12-21-006; ER10-2783-004; ER10-2784-004; ER11-2855-006; ER10-2791-004; ER10-2792-004; ER10-1564-003; ER10-1565-003; ER10-2795-004; ER10-2798-004; ER10-1575-002; ER10-2799-004; ER10-2801-004; ER11-3727-003; ER10-1566-003; ER12-2413-002; ER11-2062-003; ER10-2812-003; ER10-1291-004; ER10-2843-002; ER11-4307-003; ER12-1711-003; ER10-2846-004; ER12-261-002; ER10-2871-002; ER13-1136-001; ER10-2875-004; ER10-1568-003; ER10-1581-005; ER10-2876-004; ER10-2878-004; ER10-2879-004; ER10-2880-004; ER10-2888-004; ER10-2896-004; ER10-2913-004; ER10-2914-004; ER10-2916-004; ER10-2915-004; ER12-1525-003; ER12-2019-002; ER12-2398-002; ER10-1582-002; ER11-3459-002; ER10-2931-004; ER10-2969-004; ER11-4308-003; ER10-1580-005; ER11-2856-006; ER11-2857-006; ER10-2947-004; ER11-2504-002; ER11-2505-002; ER11-2864-002; ER11-2506-002; ER11-2508-002; ER12-2137-002; ER11-2510-002; ER12-2545-002; ER11-2863-002; ER11-2854-002; ER11-2513-002; ER11-2515-002; ER11-2742-002; ER11-2784-002; ER11-2805-002; ER10-3143-004.

Applicants: NRG Power Marketing LLC, Agua Caliente Solar, LLC, Arthur Kill Power LLC, Astoria Gas Turbine Power LLC, Avenal Park LLC, Bayou Cove Peaking Power LLC, Big Cajun I Peaking Power LLC, Cabrillo Power I LLC, Cabrillo Power II LLC, Conemaugh Power LLC, Connecticut Jet Power LLC, Cottonwood Energy Company, LP, Devon Power LLC, Dunkirk Power LLC, EL Segundo Energy Center LLC, El Segundo Power, LLC, Energy Alternatives Wholesale, LLC, Energy Plus Holdings LLC, GenCon Devon LLC, GenCon Energy LLC, GenCon Middletown LLC, Green Mountain Energy Company, High Plains Ranch II, LLC, Huntley Power LLC, Independence Energy Group LLC, Indian River Power LLC, Ivanpah Master Holdings, LLC, Keystone Power LLC, Long Beach Generation LLC, Long Beach Peakers LLC, Louisiana Generating LLC, Middletown Power LLC, Montville Power LLC, NEO Freehold-Gen LLC, Norwalk Power LLC, NRG Energy Center Dover LLC, NRG Energy Center Paxton LLC, NRG New Jersey Energy Sales LLC, NRG Rockford LLC, NRG Rockford II LLC, NRG Solar Alpine LLC, NRG Solar Avra Valley LLC, NRG Solar Borrego I LLC, NRG Solar Blythe LLC, NRG Solar Roadrunner LLC, NRG Sterlington Power LLC, Oswego Harbor Power LLC, Reliant Energy Northeast LLC, Saguaro Power Company, A Limited Partnership, Sand Drag LLC, Sun City Project, Vienna Power LLC, GenOn Bowline, LLC, GenOn Canal, LLC, GenOn Chalk Point, LLC, GenOn Delta, LLC, GenOn Energy Management, LLC, GenOn Florida, LP, GenOn Kendall, LLC, GenOn Marsh Landing, LLC, GenOn Mid-Atlantic, LLC, GenOn Potomac River, LLC, GenOn Power Midwest, LP, GenOn REMA, LLC, GenOn West, LP, GenOn Wholesale Generation, LP, RRI Energy Services, LLC, Sabine Cogen, LP.

Description: Notice of Non-Material Change in Status of NRG Power Marketing LLC, et al.

Filed Date: 4/24/13.

Accession Number: 20130424-5186.

Comments Due: 5 p.m. ET 5/15/01.

Docket Numbers: ER13-388-002.

Applicants: Sky River LLC.

Description: Sky River LLC Amendment to Shared Facilities Agreement to Request Waiver to be effective 11/16/2012.

Filed Date: 4/24/13.

Accession Number: 20130424-5153.

Comments Due: 5 p.m. ET 5/15/13.

Docket Numbers: ER13-1143-001.

Applicants: Essential Power OPP, LLC.

Description: Amendment of March 21 Filing to be effective 4/25/2013.

Filed Date: 4/25/13.

Accession Number: 20130425-5082.

Comments Due: 5 p.m. ET 5/16/13.

Docket Numbers: ER13-1144-001.

Applicants: Essential Power Rock Springs, LLC.

Description: Amendment of March 21 Filing to be effective 4/25/2013.

Filed Date: 4/25/13.

Accession Number: 20130425-5081.

Comments Due: 5 p.m. ET 5/16/13.

Docket Numbers: ER13-1327-000.

Applicants: Public Service Company of Colorado.

Description: 2013-4-24_WestConnect_Remove_Term_Date to be effective 7/1/2013.

Filed Date: 4/24/13.

Accession Number: 20130424-5086.

Comments Due: 5 p.m. ET 5/15/13.

Docket Numbers: ER13-1328-000.

Applicants: Arizona Public Service Company.

Description: ANPP Hassayampa Switchyard Interconnection Agreement, Amendment 2 to be effective 2/28/2013.

Filed Date: 4/24/13.

Accession Number: 20130424-5097.

Comments Due: 5 p.m. ET 5/15/13.

Docket Numbers: ER13-1329-000.

Applicants: AEP Texas Central Company.

Description: TCC-LCRA Transmission Services IA Amend #5 to be effective 3/27/2013.

Filed Date: 4/24/13.

Accession Number: 20130424-5135.

Comments Due: 5 p.m. ET 5/15/13.

Docket Numbers: ER13-1330-000.

Applicants: AEP Texas Central Company.

Description: TCC-Pedernales Electric Cooperative IA Cancellation to be effective 2/20/2013.

Filed Date: 4/24/13.

Accession Number: 20130424-5154.

Comments Due: 5 p.m. ET 5/15/13.

Docket Numbers: ER13-1331-000.

Applicants: ALLETE, Inc.

Description: Filing of Facilities Construction Agreement to be effective 4/24/2013.

Filed Date: 4/24/13.

Accession Number: 20130424-5155.

Comments Due: 5 p.m. ET 5/15/13.

Docket Numbers: ER13-1332-000.

Applicants: Canadian Hills Wind, LLC.

Description: Canadian Hills Wind, LLC Rate Schedule FERC No. 2 to be effective 6/24/2013.

Filed Date: 4/25/13.

Accession Number: 20130425-5000.

Comments Due: 5 p.m. ET 5/16/13.

Docket Numbers: ER13-1334-000.

Applicants: Power Network New Mexico, LLC.

Description: Power Network New Mexico MBRA Cancellation to be effective 4/26/2013.

Filed Date: 4/25/13.

Accession Number: 20130425-5015.

Comments Due: 5 p.m. ET 5/16/13.

Docket Numbers: ER13-1335-000.

Applicants: PJM Interconnection, L.L.C.

Description: Original Service Agreement No. 3519; Queue No. X4-046 to be effective 3/28/2013.

Filed Date: 4/25/13.

Accession Number: 20130425-5046.

Comments Due: 5 p.m. ET 5/16/13.

Docket Numbers: ER13-1336-000.

Applicants: Public Service Company of New Mexico.

Description: Concurrence with APS Service Agreement No. 193 to be effective 2/28/2013.

Filed Date: 4/25/13.

Accession Number: 20130425-5070.

Comments Due: 5 p.m. ET 5/16/13.

Docket Numbers: ER13-1337-000.

Applicants: PJM Interconnection, L.L.C.

Description: Original Service Agreement No. 3524; Queue No. X3-066 to be effective 3/27/2013.

Filed Date: 4/25/13.

Accession Number: 20130425-5073.

Comments Due: 5 p.m. ET 5/16/13.

Docket Numbers: ER13-1338-000.

Applicants: PJM Interconnection, L.L.C.

Description: Notice of Cancellation of Original SA No. 3335 in Docket No. ER12-2152-000 to be effective 4/9/2013.

Filed Date: 4/25/13.

Accession Number: 20130425-5080.

Comments Due: 5 p.m. ET 5/16/13.

Docket Numbers: ER13-1339-000.

Applicants: Alcan Power Marketing, Inc.

Description: Cancellation of MBR Tariff to be effective 4/26/2013.

Filed Date: 4/25/13.

Accession Number: 20130425-5093.

Comments Due: 5 p.m. ET 5/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2013.
Nathaniel J. Davis, Sr.,
Deputy Secretary.

[FR Doc. 2013-10467 Filed 5-2-13; 8:45 am]

BILLING CODE 6717-01-P